DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On November 15, 2021, OFAC determined that the property and interests in property subject to U.S. jurisdiction of the following persons are blocked under the relevant sanctions authority listed below.

Individuals

1. MONTENEGRO ESPINOZA, Luis Angel, Planes De Puntaldia Casa #16, Managua, Nicaragua; DOB 01 Jan 1949; POB Esteli, Nicaragua; nationality Nicaragua; Gender Male; National ID No. 1610101490000S (Nicaragua) (individual) [NICARAGUA].

Designated pursuant to section 1(a)(iii) of Executive Order 13851 of November 27, 2018, “Blocking Property of Certain Persons Contributing to the Situation in Nicaragua,” 83 FR 61505 (“E.O. 13851”), for being an official of the Government of Nicaragua or having served as an official of the Government of Nicaragua at any time on or after January 10, 2007.

2. ZELEDON ROCHA, Sadrach, Matagalpa, Nicaragua; DOB 08 Feb 1954; POB Nicaragua; nationality Nicaragua; Gender Male; Passport C759398 (Nicaragua); National ID No. 09058016 (Nicaragua) (individual) [NICARAGUA].

Designated pursuant to section 1(a)(iii) of E.O. 13851, for being an official of the Government of Nicaragua or having served as an official of the Government of Nicaragua at any time on or after January 10, 2007.

3. CENTENO RIVERA, Leonidas Nicolas, Jinotega, Nicaragua; DOB 06 Dec 1958; POB Nicaragua; nationality Nicaragua; Gender Male; National ID No. 2430612580000C (Nicaragua) (individual) [NICARAGUA].

Designated pursuant to section 1(a)(iii) of E.O. 13851, for being an official of the Government of Nicaragua or having served as an official of the Government of Nicaragua at any time on or after January 10, 2007.

4. VALENZUELA BLANDON, Francisco Ramon, Esteli, Nicaragua; DOB 12 Dec 1963; POB Esteli, Nicaragua; nationality Nicaragua; Gender Male; National ID No. 1611212630005S (Nicaragua) (individual) [NICARAGUA].

Designated pursuant to section 1(a)(iii) of E.O. 13851, for being an official of the Government of Nicaragua or having served as an official of the Government of Nicaragua at any time on or after January 10, 2007.

5. CHAVARRIA MONTENEGRO, Jose Adrian, Residencial Monte Cielo, Casa #C 152, Managua, Nicaragua; DOB 08 Sep 1955; POB Jinotega, Nicaragua; nationality Nicaragua; Gender Male; National ID No. 2410809550003W (Nicaragua); Diplomatic Passport A00001069 (Nicaragua) issued 06 Aug 2015 expires 06 Aug 2025 (individual) [NICARAGUA].

Designated pursuant to section 1(a)(iii) of E.O. 13851, for being an official of the Government of Nicaragua or having served as an official of the Government of Nicaragua at any time on or after January 10, 2007.

6. LOPEZ GUTIERREZ, Rodolfo Francisco, Residencial El Dorado #125, Managua, Nicaragua; DOB 03 Oct 1953; POB Jinotega, Nicaragua; nationality Nicaragua; Gender Male; Passport C01190809 (Nicaragua) issued 02 Mar 2012 expires 02 Mar 2022; National ID No. 2410310530001B (Nicaragua) (individual) [NICARAGUA].

Designated pursuant to section 1(a)(iii) of E.O. 13851, for being an official of the Government of Nicaragua or having served as an official of the Government of Nicaragua at any time on or after January 10, 2007.

7. CASTANEDA MENDEZ, Jose Antonio, Residencial Monte Cielo, Casa B 102, Nindiri, Nicaragua; DOB 19 Nov 1963; POB Managua, Nicaragua; nationality Nicaragua; Gender Male; Passport C01252526 (Nicaragua) issued 21 Jun 2012 expires 21 Jun 2022; National ID No. 0011911630053V (Nicaragua) (individual) [NICARAGUA].

Designated pursuant to section 1(a)(iii) of E.O. 13851, for being an official of the Government of Nicaragua or having served as an official of the Government of Nicaragua at any time on or after January 10, 2007.

8. FARRARA LASHTAR, Mohamed Mohamed (a.k.a. FERRARA LASHTAR, Mohamed Mohamed; a.k.a. FERRARA LASHTAR, Mohammed Mohammed), Residencial Las Colinas, Calle de los Cerros, Casa 330, Managua, Nicaragua; DOB 17 May 1959; nationality Nicaragua; citizen Nicaragua; Gender Male; Passport C1102007 (Nicaragua); alt. Passport NG252351 (Libya); National ID No. 7771705590000M (Nicaragua); Diplomatic Passport A00000271 (Nicaragua) issued 12 Sep 2012 expires 12 Sep 2022 (individual) [NICARAGUA].

Designated pursuant to section 1(a)(iii) of E.O. 13851, for being an official of the Government of Nicaragua or having served as an official of the Government of Nicaragua at any time on or after January 10, 2007.

9. MANSELL CASTRILLO, Salvador, De Los Pipitos, 200 Mts. Al Oeste Bolonia, Managua, Nicaragua; DOB 13 Dec 1955; POB Matagalpa, Nicaragua; nationality Nicaragua; Gender Male; National ID No. 4411312550001D (Nicaragua); Diplomatic Passport A00000656D (Nicaragua) issued 09 Aug 2013 expires 09 Aug 2023 (individual) [NICARAGUA].

Designated pursuant to section 1(a)(iii) of E.O. 13851, for being an official of the Government of Nicaragua or having served as an official of the Government of Nicaragua at any time on or after January 10, 2007.

Entity

1. MINISTERIO PUBLICO DE NICARAGUA, Km 4 Carretera a Masaya, Managua, Nicaragua; website https://ministeriopublico.gob.ni/; Target Type Government Entity [NICARAGUA] [NICARAGUA-NHRAA].

Designated pursuant to section 1(a)(i)(B) of E.O. 13851, for being responsible for or complicit in, or having directly or indirectly engaged or attempted to engage in, actions or policies that undermine democratic processes or institutions in Nicaragua.

Designated pursuant to section 5(a)(1) of the Nicaragua Human Rights and Anticorruption Act of 2018 (NHRAA) for being responsible for or complicit in, or responsible for ordering, controlling, or otherwise directing, or having knowingly participated in, directly or indirectly, significant actions or policies that undermine democratic processes or institutions, in or in relation to Nicaragua on or after April 18, 2018.

Dated: November 15, 2021.
Bradley T. Smith,
Acting Director, Office of Foreign Assets Control, U.S. Department of the Treasury.

[FR Doc. 2021-25441 Filed 11-19-21; 8:45 am]

BILLING CODE 4810-AL-P